DEPARTMENT OF HOMELAND SECURITY

Federal Emergency Management Agency

[Docket ID FEMA-2017-0002; Internal Agency Docket No. FEMA-B-1760]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: November 2, 2017.
Roy E. Wright,
Deputy Associate Administrator for Insurance and Mitigation, Department of Homeland Security, Federal Emergency Management Agency.

State and county | Location and case no. | Chief executive officer of community | Community map repository | Online location of letter of map revision | Date of modification | Community no.
Arizona: | Maricopa | City of Avondale (17-09-1266P) | The Honorable Kenn Weise, Mayor, City of Avondale, 11465 West Civic Center Drive, Avondale, AZ 85323 | Development & Engineering Services Department, 11465 West Civic Center Drive, Avondale, AZ 85323 | https://msc.fema.gov/portal/advanceSearch | Jan. 26, 2018 | 040038
| Maricopa | City of Scottsdale (17-09-0349P) | The Honorable W.J. “Jim” Lane, Mayor, City of Scottsdale, City Hall, 3939 North Drinkwater Boulevard, Scottsdale, AZ 85251 | Planning Records, 7447 East Indian School Road, Suite 100, Scottsdale, AZ 85251 | https://msc.fema.gov/portal/advanceSearch | Jan. 26, 2018 | 045012
Maricopa | Town of Paradise Valley (17-09-0349P) | The Honorable Michael Collins, Mayor, Town of Paradise Valley, 6401 East Lincoln Drive, Paradise Valley, AZ 85253 | Town Hall, 6401 East Lincoln Drive, Paradise Valley, AZ 85253 | https://msc.fema.gov/portal/advanceSearch | Jan. 26, 2018 | 040049
Maricopa | Unincorporated Areas of Maricopa County (17-09-1266P) | The Honorable Denny Barney, Chairman, Board of Supervisors, Maricopa County, 301 West Jefferson Street, 10th Floor Phoenix, AZ 85003 | Flood Control District of Maricopa County, 2801 West Durango Street, Phoenix, AZ 85009 | https://msc.fema.gov/portal/advanceSearch | Jan. 26, 2018 | 040037
California: | Los Angeles | City of Calabasas (17-09-0821P) | The Honorable Mary Sue Maurer, Mayor, City of Calabasas, 100 Civic Center Way, Calabasas, CA 91302 | City Hall, 100 Civic Center Way, Calabasas, CA 91302 | https://msc.fema.gov/portal/advanceSearch | Feb. 5, 2018 | 060749
Napa | Unincorporated Areas of Napa County (17-09-0456P) | The Honorable Belia Ramos, Chair, Board of Supervisors, Napa County, 1195 3rd Street, Suite 310, Napa, CA 94559 | Napa County Public Works Department, 1195 3rd Street, Suite 201, Napa, CA 94559 | https://msc.fema.gov/portal/advanceSearch | Feb. 9, 2018 | 060205
Riverside | City of Corona (17-09-1498P) | The Honorable Dick Haley, Mayor, City of Corona, 400 South Vicentia Avenue, Corona, CA 92882 | City Hall, 400 South Vicentia Avenue, Corona, CA 92882 | https://msc.fema.gov/portal/advanceSearch | Feb. 1, 2018 | 060250
Illinois: Madison | City of Wood River (17-05-1811P) | The Honorable Cheryl Maguire, Mayor, City of Wood River, 111 North Wood River Avenue, Wood River, IL 62095 | City Hall, 111 North Wood River Avenue, Wood River, IL 62095 | https://msc.fema.gov/portal/advanceSearch | Feb. 9, 2018 | 170451
Iowa: Polk | Unincorporated Areas of Polk County (17-07-0912P) | Councilman Robert Brownell Counselor, Polk County, District 1, Polk County Administration Building, 111 Court Avenue, Suite 300, Des Moines, IA 50309 | Polk County Planning Division, 5885 Northeast 14th Street, Des Moines, IA 50313 | https://msc.fema.gov/portal/advanceSearch | Jan. 16, 2018 | 190901
Minnesota: Stearns | City of Melrose (17-05-3040P) | The Honorable Joe Finken, Mayor, City of Melrose, 225 1st Street Northeast, Melrose, MN 56352 | Administration Office, 225 East 1st Street Northeast, Melrose, MN 56352 | https://msc.fema.gov/portal/advanceSearch | Jan. 18, 2018 | 270450
Missouri: St. Charles | City of Saint Peters (17-07-0905P) | The Honorable Len Pagano, Mayor, City of Saint Peters, 1 Saint Peters Centre Boulevard, St. Peters, MO 63376 | City Hall, 1 Saint Peters Centre Boulevard, Saint Peters, MO 63376 | https://msc.fema.gov/portal/advanceSearch | Jan. 18, 2018 | 290319
Wisconsin: Milwaukee | Village of Greendale (17-05-5076P) | The Honorable James Birmingham, President, Village of Greendale, 6500 Northway Street, Greendale, WI 53129 | Village Hall 6500 Northway Street, Greendale, WI 53129 | https://msc.fema.gov/portal/advanceSearch | Jan. 19, 2018 | 550276

[FR Doc. 2017-25316 Filed 11-21-17; 8:45 am]

BILLING CODE 9110-12-P